DEPARTMENT OF THE INTERIOR

National Park Service

Notice of Availability of Final Elk Management Plan and Environmental Impact Statement for Theodore Roosevelt National Park, North Dakota

SUMMARY: Pursuant to section 102(2)(C) of the National Environmental Policy Act of 1969, 42 U.S.C. 4332(2)(C), the National Park Service (NPS) announces the availability of a Final Elk Management Plan and Environmental Impact Statement (Plan/EIS) for Theodore Roosevelt National Park, North Dakota (Park).

DATES: The final Plan/EIS will remain available for public review for 30 days following the publishing of the notice of availability in the Federal Register by the U.S. Environmental Protection Agency.

ADDRESSES: The Plan/EIS is available via the Internet through the NPS Planning, Environment, and Public Comment Web site (http://parkplanning.nps.gov/THRO); click on the link to Elk Management Plan/EIS. You may also obtain a copy of the final Plan/EIS by sending a request to the Superintendent, Theodore Roosevelt National Park, P.O. Box 7, Medora, North Dakota 58645-0007.

SUPPLEMENTARY INFORMATION: The Park is proposing to manage its elk population to prevent impacts to other natural resources in the Park, which would likely occur as the herd size increases. The principal tool (translocation of live elk) the Park had been using to keep population numbers within management goals is no longer an option because of a an NPS policy issued in 2002 prohibiting translocation of elk from NPS units unless enough elk are tested to ensure that CWD is not present in the herd. The test for CWD is lethal to elk, and since 2002 the park has not tested enough elk to ensure the herd is free of CWD. Therefore, translocations for the purposes of population reduction have not occurred since 2000. This planning process was needed to examine alternatives to translocation. The purpose of this EIS is to develop and implement an elk management strategy compatible with the long term protection and preservation of park resources.

The NPS prepared a draft plan/EIS and made it available for public review for 90 days, from December 17, 2008 to March 19, 2009. Five public meetings on the draft Plan/EIS were held across the State of North Dakota from February 23, 2009, to February 28, 2009. The NPS preferred and environmentally preferable alternatives were announced in a separate newsletter and made available for public comment for 30 days, from August 10, 2009 to September 9, 2009. Comments on both the draft Plan/EIS and the preferred and environmentally preferable alternatives were considered from individuals, groups, and public agencies on a range of issues.

The preferred alternative utilizes a suite of options contained in Alternatives B (direct reduction with firearms), C (roundup and euthanasia), and D (roundup and translocation) to meet the purpose, need, and objectives of the Plan/EIS. This alternative was preferred because it will effectively reduce and maintain the herd size to target population goals while protecting park resources. This alternative will not overly burden other agencies or landowners, and does not require the Park to manage elk beyond its jurisdiction. It will provide for control by the NPS for selecting which animals will be removed, and also the time and place of removal. It may also provide robust samples for CWD screening, which is a critical issue for the Park, North Dakota Game and Fish Department, ranchers, and others.

The preferred alternative will primarily make use of skilled public volunteers to assist the Park with culling the elk herd through the use of firearms. The Park would not pay private contractors or outside individuals to shoot elk. The initial reduction phase would reduce the elk herd, now estimated at 1,000 elk, to approximately 200 elk within five years, by removing approximately 275 elk per year. Following the initial reduction phase, the Park would take an additional 20 to 24 elk per year for the remaining ten years of the Plan in order to maintain a consistent population level. For both the initial reduction phase and the maintenance phase, the number of elk taken outside the Park would be used to refine the number of elk that must be removed from the Park each year in order to meet the population goals. Following each year of the initial reduction phase, the NPS will evaluate the program in order to determine if its population goals are being met. If population goals are being achieved, the park will continue with the use of firearms. Should the park determine that its population goals are not being met following the first two years of the initial reduction phase, it would continue with direct reduction activities but would also have the ability to use a roundup or other capture methods and then euthanize and/or translocate elk in order to meet its population objectives. Should the park need to capture animals, whether elk are euthanized or translocated will depend on whether adequate sampling has occurred to meet chronic wasting disease (CWD) surveillance goals, whether CWD is detected in the herd and whether there are willing recipients that can meet all Federal and State requirements to transport and receive live elk.

FOR FURTHER INFORMATION CONTACT: Contact Superintendent Valerie Naylor, Theodore Roosevelt National Park, at the address above or by telephone at 701-623-4466.

Dated: February 2, 2010.
Ernest Quintana,
Regional Director, Midwest Region.

[FR Doc. 2010-6944 Filed 3-26-10; 8:45 am]

BILLING CODE P